SMALL BUSINESS ADMINISTRATION

Region IV—Georgia District Advisory Council Public Meeting

The Small Business Administration Region IV Georgia District Advisory Council, located in the geographical area of Atlanta, Georgia, will hold a public meeting on Friday, September 21, 2001 at 9:00 a.m. EST at the Hyatt Regency, 2 West Bay Street, Savannah, Georgia 31401, to discuss matters as may be presented by members, staff of the U.S. Small Business Administration, or others present.

Anyone wishing to make an oral presentation to the Board must contact Charles E. Anderson, District Director, in writing by letter or fax no later than September 7, 2001, in order to be put on the agenda. Charles E. Anderson, District Director, U.S. Small Business Administration, 233 Peachtree Street, NE, Suite 1900, Atlanta, Georgia 30303, (404) 331-0266 phone (404) 331-0269 fax.

Steve Tupper,
Committee Management Officer.

[FR Doc. 01-21126 Filed 8-21-01; 8:45 am]

BILLING CODE 8025-01-P